DEPARTMENT OF TRANSPORTATION

Surface Transportation Board

[STB Finance Docket No. 35309]

Reading Blue Mountain and Northern Railroad Company—Acquisition and Operation Exemption—Towanda-Monroeton Shippers' Lifeline, Inc.

Reading Blue Mountain and Northern Railroad Company (RBMN), a Class III rail carrier, has filed a verified notice of exemption under 49 CFR 1150.41 to acquire from Towanda-Monroeton Shippers' Lifeline, Inc. (TMSS) and to operate a 4.7-mile line of railroad extending between milepost 249.3 near Monroeton and milepost 254.0 near Towanda in Bradford County, PA.

RBMN certifies that its projected annual revenues as a result of the transaction will not result in the creation of a Class II or Class I rail carrier. However, because its projected annual revenues will exceed $5 million, RBMN also has certified to the Board that it has complied with the employee notice requirements of 49 CFR 1150.42(e). Pursuant to that provision, the exemption may not become effective until 60 days from the October 21, 2009 date of certification to the Board, which would be December 20, 2009. Thus, while RBMN has indicated a proposed consummation date of December 19, 2009, RBMN may not consummate the transaction and commence operating the line prior to December 20, 2009.

In its notice, RBMN states that RBMN will interchange traffic with Lehigh Railway, LLC. RBMN is unaware of any existing interchange commitments and does not contemplate that any will be required as part of this transaction.

Pursuant to the Consolidated Appropriations Act, 2008, Public Law No. 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Stay petitions must be filed by December 11, 2009 (at least 7 days before the exemption becomes effective).

An original and 10 copies of all pleadings, referring to STB Finance Docket No. 35309, must be filed with the Surface Transportation Board, 395 E Street, SW., Washington, DC 20423-0001. In addition, a copy of each pleading must be served on applicants' representative, Eric M. Hocky, Thorp Reed & Armstrong, LLP, One Commerce Square, 2005 Market Street, Suite 1000, Philadelphia, PA 19103.

Board decisions and notices are available on our Web site at: “http://www.stb.dot.gov.”

Decided: November 24, 2009.
By the Board, Rachel D. Campbell, Director, Office of Proceedings.
Kulunie L. Cannon,
Clearance Clerk.

[FR Doc. E9-28804 Filed 12-3-09; 8:45 am]

BILLING CODE 4915-01-P